DEPARTMENT OF HEALTH AND HUMAN SERVICES

National Institutes of Health

National Heart, Lung, and Blood Institute; Notice of Closed Meetings

Pursuant to section 10(d) of the Federal Advisory Committee Act, as amended (5 U.S.C., Appendix 2), notice is hereby given of the following meetings.

The meetings will be closed to the public in accordance with the provisions set forth in section 552b(c)(4) and 552b(c)(6), Title 5, U.S.C., as amended. The grant applications and the discussions could disclose confidential trade secrets or commercial property such as patentable material, and personal information concerning individuals associated with the grant applications, the disclosure of which would constitute a clearly unwarranted invasion of personal privacy.

Name of Committee: National Heart, Lung, and Blood Institute Special Emphasis Panel; Mentored Patient-Oriented Res. Career Development Awards (K23), Midcareer Investigator Awards in Patient-Oriented Research (K24), and Mentored Quantitative Research Career Develop. Awards (K25).

Date: May 30-31, 2000.

Time: 7 pm to 4 pm.

Agenda: To review and evaluate grant applications.

Place: Chevy Chase Holiday Inn, 5520 Wisconsin Ave., Chevy Chase, MD 20815.

Contact Person: Diane M. Reid, Scientific Review Administrator, NIH, NHLBI, DEA, Two Rockledge Center, 6701 Rockledge Drive, Room 7182, Bethesda, MD 20892-7924, (301) 435-0277.

Name of Committee: National Heart, Lung, and Blood Institute Special Emphasis Panel, Transitional Career Development Award in Women's Health Research.

Date: May 31, 2000.

Time: 4 pm to 5 pm.

Agenda: To review and evaluate grant applications.

Place: Chevy Chase Holiday Inn, 5520 Wisconsin Ave., Chevy Chase, MD 20815.

Contact Person: Diane M. Reid, Scientific Review Administrator, NIH, NHLBI, DEA, Two Rockledge Center, 6701 Rockledge Drive, Room 7182, Bethesda, MD 20892-7924, (301) 435-0277.

Name of Committee: National Heart, Lung, and Blood Institute Special Emphasis Panel, Specialized Centers of Research (SCOR) in Hemostatic and Thrombotic Diseases.

Date: June 1-2, 2000.

Time: 7 pm to 5 pm.

Agenda: To review and evaluate grant applications.

Place: Chevy Chase Holiday Inn, 5520 Wisconsin Ave., Chevy Chase, MD 20815.

Contact Person: Diane M. Reid, Scientific Review Administrator, NIH, NHLBI, DEA, Two Rockledge Center, 6701 Rockledge Drive, Room 7182, Bethesda, MD 20892-7924, (301) 435-0277.

Name of Committee: National Heart, Lung, and Blood Institute Special Emphasis Panel, Molecular Genetics of Hypertension SCOR.

Date: June 22-23, 2000.

Time: 7 pm to 5 pm.

Agenda: To review and evaluate grant applications.

Place: Sheraton Columbia Hotel, 10207 Wincopin Circle, Columbia, MD 21044.

Contact Person: Jeffrey H. Hurst, Leader, Vascular/Blood Scientific Review Group, Rockledge Center II, 6701 Rockledge Drive, Suite 7208, Bethesda, MD 20892-7924, 301/435/0303.

Name of Committee: National Heart, Lung, and Blood Institute Special Emphasis Panel, Cellular and Molecular Mechanisms of Diabetic Cardiomyopathy.

Date: June 29-30, 2000.

Time: 7 pm to 5 pm.

Agenda: To review and evaluate grant applications.

Place: Holiday Inn Bethesda, 8120 Wisconsin Ave., Bethesda, MD 20814.

Contact Person: S. Charles Selden, Scientific Review Administrator, NIH/NHLBI/DEA, Rockledge Center II, 6701 Rockledge Drive, Suite 7196, Bethesda, MD 20892-7924, 301/435-0288.

(Catalogue of Federal Domestic Assistance Program Nos. 93.233, National Center for Sleep Disorders Research; 93.837, Heart and Vascular Diseases Research; 93.838, Lung Diseases Research; 93.839, Blood Diseases and Resources Research, National Institutes of Health, HHS)
Dated: May 3, 2000.
LaVerne Y. Stringfield,
Director, Office of Federal Advisory Committee Policy.

[FR Doc. 00-11761 Filed 5-10-00; 8:45 am]

BILLING CODE 4140-01-M